INTERNATIONAL TRADE COMMISSION

[Investigation Nos. 701-TA-488 and 731-TA-1199-1200 (Review)]

Certain Large Residential Washers From Korea and Mexico; Revised Schedule for Full Five-Year Reviews

AGENCY: United States International Trade Commission.

ACTION: Notice.

DATES: February 4, 2019.

FOR FURTHER INFORMATION CONTACT: Nathanael Comly (202-205-3174), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

SUPPLEMENTARY INFORMATION: On September 7, 2018, the Commission established a schedule for the conduct of the full five-year reviews (83 FR 46757, September 14, 2018). Due to the lapse in appropriations and ensuing cessation of Commission operations, the Commission is revising its schedule.

The Commission's revised dates in the schedule are as follows: Deadline for filing prehearing briefs is February 12, 2019; requests to appear at the hearing should be filed on or before February 14, 2019; prehearing conference to be held, if deemed necessary, is on February 20, 2019; the hearing is on Thursday, February 21, 2019 beginning at 9:30 a.m.; the deadline for filing posthearing briefs is March 1, 2019; any person who has not entered an appearance as a party to the reviews may submit a written statement of information pertinent to the subject of the reviews on or before March 1, 2019; final release of information is on March 22, 2019; and party final comments are due on March 26, 2019.

For further information concerning these reviews, see the Commission's notice cited above and the Commission's Rules of Practice and Procedure, part 201, subparts A through E (19 CFR part 201), and part 207, subparts A, D, E, and F (19 CFR part 207).

Authority: These reviews are being conducted under authority of title VII of the Tariff Act of 1930; this notice is published pursuant to section 207.62 of the Commission's rules.

By order of the Commission.
Issued: February 5, 2019.
Lisa Barton,
Secretary to the Commission.

[FR Doc. 2019-01634 Filed 2-7-19; 8:45 am]

BILLING CODE 7020-02-P